DEPARTMENT OF COMMERCE

National Oceanic and Atmospheric Administration

50 CFR Part 622

[Docket No. 140818679-5356-02]

RIN 0648-XE575

Fisheries of the Caribbean, Gulf of Mexico, and South Atlantic; Reef Fish Fishery of the Gulf of Mexico; 2016 Recreational Fishing Seasons for Red Snapper in the Gulf of Mexico

AGENCY: National Marine Fisheries Service (NMFS), National Oceanic and Atmospheric Administration (NOAA), Commerce.

ACTION: Temporary rule; closures.

SUMMARY: NMFS announces the 2016 recreational fishing seasons for the private angling and Federal charter vessel/headboat (for-hire) components for red snapper in the exclusive economic zone (EEZ) of the Gulf of Mexico (Gulf) through this temporary rule. The Federal recreational seasons for red snapper in the Gulf EEZ begin at 12:01 a.m., local time, on June 1, 2016. For recreational harvest by the private angling component, the season closes at 12:01 a.m., local time, on June 10, 2016. For recreational harvest by the Federal for-hire component, the season closes at 12:01 a.m., local time, on July 17, 2016. These closures are necessary to prevent the private angling and Federal for-hire components from exceeding their respective quotas (annual catch limits (ACLs)) for the fishing year and prevent overfishing of the Gulf red snapper resource.

DATES: The closure is effective at 12:01 a.m., local time, June 10, 2016, until 12:01 a.m., local time, January 1, 2017, for the private angling component. The closure is effective at 12:01 a.m., local time, July 17, 2016, until 12:01 a.m., local time, January 1, 2017, for the Federal for-hire component. The 2017 Federal recreational fishing seasons for the respective components begin on June 1, 2017.

FOR FURTHER INFORMATION CONTACT: Peter Hood, NMFS Southeast Regional Office, telephone: 727-824-5305, email: peter.hood@noaa.gov.

SUPPLEMENTARY INFORMATION: The Gulf reef fish fishery, which includes red snapper, is managed under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) by regulations at 50 CFR part 622.

The final rule implementing Amendment 40 to the FMP established two components within the recreational sector fishing for Gulf red snapper, the private angling component and the Federal for-hire component (80 FR 22422, April 22, 2015). Amendment 40 also allocated the red snapper recreational ACL and annual catch target (ACT) between the components, and established separate seasonal closures for the two components. The seasonal closures are projected from the component ACTs (set 20 percent less than the component ACLs) to reduce the likelihood of harvests exceeding the component ACLs and total recreational ACL. Published in the same issue of the Federal Register is the final rule for Amendment 28 to the FMP to implement revised ACLs for the commercial sector and revised ACLs and ACTs for the private angling and Federal for-hire components of the recreational sector for 2016 and 2017. For 2016, the Amendment 28 final rule set the private angling ACL at 4.150 million lb (1.882 million kg), round weight, and ACT at 3.320 million lb (1.506 million kg), round weight. The ACL and ACT for the Federal for-hire component in 2016 are 3.042 and 2.434 million lb (1.380 and 1.104 million kg), round weight, respectively.

To project the 2016 recreational red snapper seasons for the private angling and Federal for-hire components, a tiered projection approach was taken for forecasting Gulf recreational red snapper average weight and catch rates for 2016. To account for Gulf state recreational red snapper seasons in 2016 that are inconsistent with Federal recreational seasons, state average weights and daily catch rates for 2016 were based on observed values from the 2014 and 2015 seasons. Ten projection scenarios were developed for determining Federal season lengths for the private angler component and Federal for-hire component; five projection scenarios were based on recent years' data and five were based on regression methods using year, year of rebuilding, spawning stock biomass, fuel prices, per capita gross domestic product, and state and Federal season lengths as predictive covariates. As a result of the assumed inconsistent recreational season lengths for Gulf states in 2016, NMFS projects that landings from recreational harvest in state waters will be approximately half of the 2016 private angler component ACT. The results from the ten projection scenarios as well as additional details about the calculation of the 2016 projections can be viewed in a report located at http://sero.nmfs.noaa.gov/sustainable_fisheries/gulf_fisheries/red_snapper/index.html.

Based upon the mean of projection scenarios using 2014 and 2015 observed catch rates and mean weights, NMFS determines that the season for the private angling component will be 9 days and the season for the Federal for-hire component will be 46 days. Therefore, the Federal season for the private angling component will begin at 12:01 a.m., local time, June 1, 2016, and close at 12:01 a.m., local time, June 10, 2016. The Federal season for the Federal for-hire component will begin at 12:01 a.m., local time, June 1, 2016, and close at 12:01 a.m., local time, July 17, 2016. The 2017 Federal recreational fishing seasons for the respective components begin on June 1, 2017.

On and after the effective date of a recreational component closure, the bag and possession limits for red snapper in the respective component are zero. When the Federal charter vessel/headboat component or entire recreational sector is closed, these bag and possession limits apply in the Gulf on board a vessel for which a valid Federal charter vessel/headboat permit for Gulf reef fish has been issued, without regard to where such species were harvested, i.e., in state or Federal waters.

Classification

The Regional Administrator for the NMFS Southeast Region has determined this temporary rule is necessary for the conservation and management of Gulf red snapper and is consistent with the Magnuson-Stevens Act and other applicable laws.

This action is taken under 50 CFR 622.41(q)(2)(i) and is exempt from review under Executive Order 12866.

These measures are exempt from the procedures of the Regulatory Flexibility Act because the temporary rule is issued without opportunity for prior notice and comment.

This action responds to the best scientific information available. The Assistant Administrator for NOAA Fisheries (AA), finds that the need to immediately implement this action to close the private angling and Federal for-hire components for the red snapper recreational sector constitute good cause to waive the requirements to provide prior notice and opportunity for public comment on this temporary rule pursuant to the authority set forth in 5 U.S.C. 553(b)(B), because such procedures are unnecessary and contrary to the public interest. Such procedures are unnecessary because the rule implementing the recreational red snapper ACLs and ACTs, and the rule implementing the requirement to close the recreational components when the ACTs are projected to be reached have already been subject to notice and comment, and all that remains is to notify the public of the closures. Providing prior notice and opportunity for public comment are contrary to the public interest because of the need to immediately implement this action to protect Gulf red snapper. Prior notice and opportunity for public comment would require time and many of those affected by the length of the recreational fishing seasons, particularly charter vessel and headboat operations that book trips for clients in advance, need as much advance notice as NMFS is able to provide to adjust their business plans to account for the recreational fishing seasons.

For the aforementioned reasons, the AA also finds good cause to waive the 30-day delay in the effectiveness of this action under 5 U.S.C. 553(d)(3).

Authority: 16 U.S.C. 1801 et seq.

Dated: April 22, 2016.
Emily H. Menashes,
Acting Director, Office of Sustainable Fisheries, National Marine Fisheries Service.

[FR Doc. 2016-09907 Filed 4-27-16; 8:45 am]

BILLING CODE 3510-22-P